DEPARTMENT OF EDUCATION

34 CFR Chapter III

Proposed Priority—National Institute on Disability and Rehabilitation Research (NIDRR)—Rehabilitation Engineering Research Centers (RERCs)—Technologies To Support Successful Aging With Disability

AGENCY: Office of Special Education and Rehabilitative Services, Department of Education.

ACTION: Proposed priority.

Catalog of Federal Domestic Assistance (CFDA) Number: 84.133E-3

SUMMARY: The Assistant Secretary for Special Education and Rehabilitative Services proposes one priority for the Disability and Rehabilitation Research Projects and Centers Program administered by NIDRR. Specifically, this notice proposes one priority for an RERC: Technologies to Support Successful Aging with Disability. The Assistant Secretary may use this priority for a competition in fiscal year (FY) 2013 and later years. We take this action to focus research attention on areas of national need. We intend to use this priority to improve rehabilitation services and outcomes for individuals with disabilities.

DATES: We must receive your comments on or before May 3, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priorities for RERCs” in the priority title in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priority is in concert with NIDRR's currently approved Long-Range Plan (Plan). The Plan, which was published in the Federal Register on February 15, 2006 (71 FR 8166), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes one priority that NIDRR intends to use for RERC competitions in FY 2013 and possibly later years. However, nothing precludes NIDRR from publishing additional priorities, if needed. Furthermore, NIDRR is under no obligation to make awards for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and 13563 and their overall requirement of reducing regulatory burden that might result from this proposed priority. Please let us know of any further ways we could reduce potential costs or increase potential benefits while preserving the effective and efficient administration of the program.

During and after the comment period, you may inspect all public comments about this notice in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Engineering Research Centers Program (RERCs)

The purpose of NIDRR's RERC program, which is funded through the Disability and Rehabilitation Research Projects and Centers Program, is to improve the effectiveness of services authorized under the Rehabilitation Act. It does so by conducting advanced engineering research, developing and evaluating innovative technologies, facilitating service delivery system changes, stimulating the production and distribution of new technologies and equipment in the private sector, and providing training opportunities. RERCs seek to solve rehabilitation problems and remove environmental barriers to improvements in employment, community living and participation, and health and function outcomes of individuals with disabilities.

The general requirements for RERCs are set out in subpart D of 34 CFR part 350 (What Rehabilitation Engineering Research Centers Does the Secretary Assist?).

Additional information on the RERC program can be found at: www.ed.gov/rschstat/research/pubs/index.html.

Program Authority: 29 U.S.C. 762(g) and 764(b)(3).

Applicable Program Regulations: 34 CFR part 350.

Proposed Priority

This notice contains one proposed priority.

RERC on Technologies To Support Successful Aging With Disability

Background

Current estimates indicate that between 37 million and 52 million individuals living in the United States have some kind of disability (IOM, 2007a; Brault, 2012). These numbers will likely grow significantly in the next 25-30 years as the baby boom generation continues to enter later life, when the risk of disability is the highest (IOM, 2007a). Projections based on the U.S. Census data from 2010 indicate that by 2030, the population 65 years and older will almost double from 35 million to more than 71 million or to approximately 20 percent of the overall population (Brault, 2012).

Although older age is a major risk factor for disability, millions of younger and middle-age adults also live with disabilities. In 2010, some 29.5 million Americans aged 21 to 64 or 16.6 percent of the working-age population reported disabilities (Brault, 2012). This large working-age group includes people who are aging with life-long and early onset disabilities that were once fatal or associated with shortened life expectancy (Jensen et al., 2011; IOM, 2007b, Kemp & Mosqueda, 2004). This population is now experiencing the benefits of increased longevity as well as premature or atypical aging related to their condition, its management, or other environmental factors (Jensen et al., 2011; IOM, 2007; Kailes, 2006; Kemp & Mosqueda, 2004).

As working-age and older adults with disabilities grow older, many face significant new challenges to their health and independence due to the onset of secondary conditions associated with changes in the underlying impairment and the onset of age-related, chronic conditions (Freid et al., 2012; Jensen et al., 2011; IOM, 2007b; Kailes, 2006; Kemp & Mosqueda, 2004; Kinny et al., 2004). The challenges of aging with and into disability are compounded by the presence of economic and environmental barriers, such as a lack of affordable and accessible transportation and housing services. There is a lack of innovative technologies that extend the benefits of health promotion and rehabilitation interventions and strategies into home and community-based settings (Rizzo et al., 2012; Czaja & Sharit, 2009; IOM, 2007a; IOM, 2007c; Mann, 2005).

For example, while emerging research indicates that functional motor capacity and independence can be improved, maintained, or recovered via consistent participation in exercise and rehabilitation programs for individuals with upper and lower extremity impairments (Winstein et al., 2012; Czaja & Sharit, 2009; Merians, et al. 2009; Krakauer, 2006; Mann, 2005; Mynatt & Rodgers, 2002), the availability of evidence-based exercise and rehabilitation programs and interventions in home and community-based settings for this population is severely limited (Lindenberger et al, 2008; Krakauer, 2006; Tyrer et al., 2006). The commercially available, home-based technologies that promise to improve balance and prevent falls are not informed by evidence from rehabilitation science and gerontology and have not been evaluated for use by individuals with disabilities (Rizzo et al., 2011; Czaja & Sharit, 2009; Lindenberger et al., 2008).

Despite limitations in the availability of evidence-based technologies and interventions to support healthy aging with disability, findings from social and demographic research suggests that assistive technologies (AT) and information and communication technologies (ICT) are playing an increasingly important role in the lives of people with disabilities (Wild et al., 2008; Freedman et al., 2006). For example, secondary analysis of data from the National Long-Term Care Survey found that the steadily increasing use of these technologies was associated with downward trends in the reported rates of disability among adults age 65 and over (Spillman, 2004). Other research suggests that AT and ICT may substitute for, or supplement, personal care (Carlson and Ehrlich, 2005).

Findings such as these suggest that greater availability and use of low-cost, evidence-based, computer-aided technologies, such as AT and ICT, could help the Nation prepare for a future characterized by a growing population of working-age and older adults with long-term disabilities and increased demand for healthcare and long-term services and supports, combined with a shrinking proportion of younger people available to provide personal assistance (Lindenberger, 2008; IOM, 2007a, Pew & Van Hemel, 2004). To respond to the challenges and opportunities in the emerging area of aging, disability and technology, NIDRR proposes to fund a Rehabilitation Engineering Research Center (RERC) on Technologies to Support Healthy Aging With Disability.

References

Brault, M.W. (2012). Americans with disabilities: 2010. U.S. Census Bureau, U.S. Department of Commerce. Available at www.census.gov/prod/2012pubs/p70-131.pdf.

Carlson D., & Ehrlich N. (2005). Assistive technology and information technology use and need by persons with disabilities in the United States, 2001. Washington, DC: National Institute on disability and Rehabilitation Research, U.S. Department of Education. Available at http://www2.ed.gov/rschstat/reserach/pubs/at-use/at-use-2001.doc.

Czaja, S.J., & Sharit, J. (2009). The aging of the population: Opportunities and challenges for human factors engineering. The Bridge: Linking Engineering and Society, 39(1): 34-40. Available at www.nae.edu/Publications/Bridge/TechnologiesforanAgingPopulation/TheAgingofthePopulation.aspx.

Freedman, V.A., Agree, E.M., Martin, L.G., & Cornman, J.C. (2006). Trends in the use of assistive technology and personal care for late-life disability, 1992-2000. Gerontologist, 46(1): 124-127.

Freid, V.M., Bernstein, A.B., & Bush, M.A. (2012). Multiple chronic conditions among adults aged 45 and over: Trends Over the past 10 years. NCHS data brief, no. 100. Hyattsville, MD: National Center for Health Statistics. 2010. Available at www.cdc.gov/nchs/data/databriefs/db100.htm.

Institute of Medicine (IOM). 2007a. The future of disability in America. Committee on Disability in America; Field, M.J., Jette, A.M., editors. Chapter 1: Introduction, pp. 16-34. Washington (DC): The National Academies Press. Available at www.ncbi.nlm.nih.gov/books/NBK11434.

Institute of Medicine (IOM). 2007b. The future of disability in America. Committee on Disability in America; Field, M.J., Jette, A.M., editors. Chapter 5: Secondary conditions and aging with disability, pp. 136-161. Washington (DC): The National Academies Press. Available at www.ncbi.nlm.nih.gov/books/NBK11434.

Institute of Medicine (IOM). 2007c. The future of disability in America. Committee on Disability in America; Field, M.J., Jette, A.M., editors. Chapter 7: Assistive and mainstream technologies for people with disabilities, pp. 183-221. Washington (DC): The National Academies Press. Available at www.ncbi.nlm.nih.gov/books/NBK11434.

Jensen, M.P., Molton, I.R., Groah, S.L., Campbell, M.L., Charlifue, S., Chiodo, A., Forchheimer, M., Krause, J.S., & Tate D. (2011). Secondary health conditions in individuals aging with SCI: Terminology, concepts, and analytic approaches. Spinal Cord, 50(5): 373-378.

Kailes, J.L. (2006). A User's Perspective on Midlife (Ages 18-65) Aging with Disability. Workshop on Disability in America: A New Look. Washington, DC: The National Academies Press, pp. 194-204.

Kemp, B.J., & Mosqueda, L. (Eds.) (2004). Aging with a disability: What the clinician needs to know. Baltimore, MD: The Johns Hopkins University Press.

Kinny, S., Patrick, D.L., & Doyle D.L. (2004). Prevalence of secondary conditions among people with disabilities. American Journal of Public Health, 94(3): 443-445.

Krakauer, J.W. (2006). Motor learning: Its relevance to stroke recovery and neurorehabilitation. Current Opinion in Neurology, 19: 84.

Lindenberger, U., Lovden, M., Schellenbach, M., Li, S., & Kruger, A. (2008). Psychological principles of successful aging technologies; a mini-review. Gerontology, 54: 59-68.

Mann, W.C. (2005). Aging, Disability, and Independence: Trends and Perspectives. Smart Technology for Aging, Disability, and Independence: The State of the Science. Hoboken, NJ. John Wiley & Sons, Inc., pp. 1-29.

Merians, A.S, Tunik, E., Fluet, G.G., Qiu, Q., & Adamovich, S.V. (2009). Innovative approaches to the rehabilitation of upper extremity hemiparesis using virtual environments. European Journal of Physical and Rehabilitation Medicine, 45: 123.

Mynatt, E., & Rodgers, W. (2002). Developing technology to support the functional independence of older adults. Ageing International, 27: 24.

Pew, R.W., & Van Hemel, S.B. (2004). National Research Council (U.S.) Steering Committee for the Workshop on Technology for Adaptive Aging, et al. Technology for adaptive aging. Washington, DC; National Academies Press.

Rizzo, A., Requejo, P., Winstein, C., Lange, B., Ragusa, G., Merians, A., Patton J., Banerjee, P., & Aisen, A. (2011). Virtual reality applications for addressing the needs of those aging with disability. In Medicine Meets Virtual Reality 18, J.D. Westwood et al. (Eds.) IOS Press, 2011 Available at www.isi.edu/research/rerc/spotlight/files/NIDRR_MMVR2011_workshop_book.pdf.

Spillman, B.C. (2004). Changes in elderly disability rates and the implications for health care utilization and cost. Milbank Quarterly, 82(1): 157-194.

Tyrer, H.W., Alwan, M., Demiris, G., He, Z., Keller, J., Skubic, M., & Rantz, M. (2006). Technology for successful aging. Proceedings of the 28th institute of electrical and electronics engineers (IEEE) Engineering in medicine and biology society (EMBS) annual international conference, New York City, USA; pp. 3290-3293. Available at http://eldertech.missouri.edu/files/Technology_for_Successful_Aging.pdf.

Wild, K., Boise. L., Lundell, J., & Foucek A. (2008). Unobtrusive in-home monitoring of cognitive and physical health: Reactions and perceptions of older adults. Journal of Applied Gerontology, 27(2): 181-200. Available at www.ncbi.nlm.nih.gov/pmc/articles/PMC2629437/?tool=pubmed.

Winstein, C.J., Requejo, P.S., Zelinski, E.M., Mulroy, S.J., & Crimmins, E.M. (2012). A transformative subfield in rehabilitation science at the nexus of new technologies, aging, and disability. Frontiers in Psychology, 3 (Article 340): 1-8. Available at www.ncbi.nlm.nih.gov/pmc/articles/PMC3448347/.

Proposed Priority

The Assistant Secretary for Special Education and Rehabilitative Services proposes the following priority for the establishment of a Rehabilitation Engineering Research Center (RERC) on Technologies to Support Successful Aging With Disability. Within its designated priority research area, this RERC will focus on innovative technological solutions, new knowledge, and new concepts that will improve the lives of individuals with disabilities.

Under this priority, the RERC must research, develop or identify, and evaluate innovative technologies and strategies that maximize the physical and cognitive functioning of individuals with long-term disabilities as they age. This RERC must engage in research and development activities to build a base of evidence for the usability of, and cost-effectiveness of home-based interactive technologies that are intended to improve physical and cognitive functioning of individuals with disabilities as they age. This RERC may develop and evaluate new technologies, or identify and evaluate existing or commercially available technologies, or both, that are designed to improve the physical and cognitive outcomes of this population. In addition, the RERC must facilitate access to, and use of the low-cost, home-based interactive technologies that improve the physical and cognitive outcomes of individuals with disabilities, through such means as collaborating and communicating with relevant stakeholders, providing technical assistance, and promoting technology transfer.

General RERC Requirements

Under this priority, the RERC must be designed to contribute to the following outcomes:

(1) Increased technical and scientific knowledge relevant to its designated priority research area. The RERC must contribute to this outcome by conducting high-quality, rigorous research and development projects.

(2) Increased innovation in technologies, products, environments, performance guidelines, and monitoring and assessment tools applicable to its designated priority research area. The RERC must contribute to this outcome through the development and testing of these innovations.

(3) Improved research capacity in its designated priority research area. The RERC must contribute to this outcome by collaborating with the relevant industry, professional associations, institutions of higher education, health care providers, or educators, as appropriate.

(4) Improved usability and accessibility of products and environments in the RERC's designated priority research area. The RERC must contribute to this outcome by emphasizing the principles of universal design in its product research and development. For purposes of this section, the term “universal design” refers to the design of products and environments to be usable by all people, to the greatest extent possible, without the need for adaptation or specialized design.

(5) Improved awareness and understanding of cutting-edge developments in technologies within its designated priority research area. The RERC must contribute to this outcome by identifying and communicating with relevant stakeholders, including NIDRR, individuals with disabilities, their representatives, disability organizations, service providers, professional journals, manufacturers, and other interested parties regarding trends and evolving product concepts related to its designated priority research area.

(6) Increased impact of research in the designated priority research area. The RERC must contribute to this outcome by providing technical assistance to relevant public and private organizations, individuals with disabilities, employers, and schools on policies, guidelines, and standards related to its designated priority research area.

(7) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research, a plan to disseminate its research results to individuals with disabilities, their representatives, disability organizations, service providers, professional journals, manufacturers, and other interested parties;

• Provide as part of its proposal, and then implement, a plan to disseminate its research results to individuals with disabilities and their representatives; disability organizations; service providers; professional journals; manufacturers; and other interested parties. In meeting this requirement, each RERC may use a variety of mechanisms to disseminate information, including state-of-the-science conferences, Webinars, Web sites, and other dissemination methods; and

• Coordinate with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits of this regulatory action. The potential costs are those resulting from statutory requirements and those we have determined as necessary for administering the Department's programs and activities.

The benefits of the Disability and Rehabilitation Research Projects and Centers Programs have been well established over the years in that similar projects have been completed successfully. This proposed priority would generate new knowledge through research and development. The new RERCs would generate, disseminate, and promote the use of new information that would improve the options for individuals with disabilities to fully participate in their communities.

Intergovernmental Review: This program is not subject to Executive Order 12372 and the regulations in 34 CFR part 79.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 29, 2013.
Michael Yudin,
Delegated the authority to perform the functions and duties of Assistant Secretary for Special Education and Rehabilitative Services.

[FR Doc. 2013-07763 Filed 4-2-13; 8:45 am]

BILLING CODE 4000-01-P